DEPARTMENT OF THE INTERIOR

Bureau of Reclamation

[FES-06-53]

Transfer of Title to Facilities, Works, and Lands of the Gila Project, Wellton-Mohawk Division, to the Wellton-Mohawk Irrigation and Drainage District, Yuma County, AZ (Wellton-Mohawk Title Transfer)

AGENCY: Bureau of Reclamation, Interior.

ACTION: Notice of Availability, Final Environmental Impact Statement, Wellton-Mohawk Title Transfer.

SUMMARY: Pursuant to the National Environmental Policy Act (NEPA) of 1969, as amended, the Bureau of Reclamation (Reclamation) has prepared a Final Environmental Impact Statement (FEIS) to evaluate the potential effects of the proposed Wellton-Mohawk Title Transfer. The title transfer would transfer ownership and divest Reclamation of the responsibility for the operation, maintenance, management, regulation of, and liability for the identified project facilities and appurtenant lands to the Wellton-Mohawk Irrigation and Drainage District (District). This title transfer would consolidate management responsibility with the District, thereby allowing them to have greater authority in the management of growth and land-based issues in the Wellton-Mohawk Valley, protect against encroachment on agriculture, and consolidate ownership of lands, facilities, and the Gila River Flood Channel.

ADDRESSES: To obtain a compact disc or paper copy of the FEIS, please e-mail Christa Monaco at cmonaco@lc.usbr.gov or write Ms. Monaco at the Bureau of Reclamation, Lower Colorado Regional Office, P.O. Box 61470, Boulder City, NV 89006-1470. A copy of the FEIS is available for public review and inspection on the Region's Web site at http://www.usbr.gov/lc under “Latest News and Info”, or at the following locations:

• Wellton-Mohawk Irrigation and Drainage District, 30570 Wellton-Mohawk Drive, Wellton, AZ, telephone: (928) 785-3351.

• Dateland School Branch Library, Avenue 64 East, Dateland, AZ, telephone: (928) 454-2243.

• Foothills Branch Library, 11279 South Glenwood Avenue, Yuma, AZ, telephone: (928) 342-1640.

• Roll Branch Library, 5151 South Avenue 39 East, Roll, AZ, telephone: (928) 785-3701.

• Wellton Branch Library, 10425 Williams Street, Wellton, AZ, telephone: (928) 785-9575.

• Yuma County Main Library, 350 South 3rd Avenue, Yuma, AZ, telephone: (928) 782-1871.

• Bureau of Reclamation, Yuma Area Office, 800 Calle Agua Salada, Yuma, AZ, telephone: (928) 343-8139.

• Bureau of Reclamation, Public Affairs Office, Annex Building, corner of Nevada Highway and Park Street, Boulder City, NV, telephone: (702) 293-8421.

• Bureau of Reclamation, Denver Office Library, Building 67, Room 167, Denver Federal Center, 6th and Kipling, Denver, CO telephone: (303) 445-2072.

FOR FURTHER INFORMATION CONTACT: Ms. Renee Kolvet, Project Lead, Lower Colorado Regional Office, Bureau of Reclamation, 702-293-8443, fax 702-293-8146 or e-mail: rkolvet@lc.usbr.gov.

SUPPLEMENTARY INFORMATION:

Background

The Draft Environmental Impact Statement (DEIS) Notice of Availability was published in the Federal Register on September 4, 2003 (68 FR 52613). The public review period ended on October 29, 2003. All comments received on the DEIS were carefully reviewed and considered in preparing the FEIS. Where appropriate, responses to comments received from interested organizations and individuals during the review period are addressed in the FEIS.

The amount of land to be transferred has been reduced by approximately 8,850 acres from that identified in the Proposed Action of the DEIS. These changes were made to reflect the correct legal land ownership status and in response to concerns raised during consultations with tribal governments. No additional adverse environmental impacts would result from the changes as documented in the FEIS.

Reclamation will not make a decision on the proposed action until at least 30 days after Environmental Protection Agency's Notice of Availability of the FEIS is published in the Federal Register. After the 30-day waiting period, Reclamation may complete a Record of Decision (ROD) which would state the action that will be implemented and would discuss all factors leading to the decision.

The FEIS will be used in the decision-making process pursuant to the Wellton-Mohawk Transfer Act of June 2000 (Pub. L. 106-221), whereby the Secretary of the Interior was authorized to transfer title to the Wellton-Mohawk Division of the Gila Project works and facilities, and certain federally-owned lands from the United States to the District. The District is a political subdivision of the State of Arizona constituted to own lands and facilities and to contract with Reclamation for diversion of Colorado River water for delivery to its landowners. Reclamation and the District signed a Memorandum of Agreement (MOA) in July 1998, as amended, which defines the methods and principles of this title transfer process.

Two alternatives are evaluated in the FEIS: (1) The No Action Alternative, under which facilities of the Wellton-Mohawk Division of the Gila Project and lands within or adjacent to the Gila Project would remain in Federal ownership, and (2) the Proposed Action/Preferred Alternative under which Reclamation would transfer title to the facilities of the Wellton-Mohawk Division of the Gila Project and lands within or adjacent to the Gila Project to the District.

Dated: November 29, 2006.
Jayne Harkins,
Deputy Regional Director, Lower Colorado Region.

[FR Doc. E7-177 Filed 1-9-07; 8:45 am]

BILLING CODE 4310-MN-P